DEPARTMENT OF LABOR

Employment and Training Administration

[TA-W-60,709]

Caraustar Industries, York Carton Plant; York, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 14, 2007, applicable to workers of Caraustar Custom Packaging Group, Inc., Austell, Georgia. The notice was published in the Federal Register on February 27, 2007 (72 FR 8794).

At the request of the State agency, the Department reviewed the certification for workers of the subject firm. The workers are engaged in the production of folding cartons.

New information shows that the correct name and location of the subject firm should read Caraustar Industries, York Carton Plant, York, Pennsylvania.

Caraustar Custom Packaging Group, Inc., Austell, Georgia, the parent firm of Caraustar Industries, was inadvertently stated as the subject firm of this investigation in the original certification and is not the subject firm of this investigation.

The investigation that was conducted was correctly conducted on behalf of the workers of Caraustar Industries, York Carton Plant, York, Pennsylvania.

Accordingly, the Department is amending this certification to correct the subject firm name, city and State.

The intent of the Department's certification is to include all workers of Caraustar Industries, York Carton Plant who were adversely affected by customer imports.

The amended notice applicable to TA-W-60,709 is hereby issued as follows:

All workers of Caraustar Industries, York Carton Plant, York, Pennsylvania, who became totally or partially separated from employment on or after December 20, 2005 through February 14, 2009, are eligible to apply for adjustment assistance under Section 223 of the Trade Act of 1974, and are also eligible to apply for alternative trade adjustment assistance under Section 246 of the Trade Act of 1974.

Signed at Washington, DC, this 6th day of April 2007.
Elliott S. Kushner,
Certifying Officer, Division of Trade Adjustment Assistance.

[FR Doc. E7-7101 Filed 4-13-07; 8:45 am]

BILLING CODE 4510-FN-P